DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of July 19, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Coconino County, Arizona and Incorporated Areas
Docket No.: FEMA-B-2113
Unincorporated Areas of Coconino County | Community Development Department, 2500 North Fort Valley Road, Building 1, Flagstaff, AZ 86001.
Woodruff County, Arkansas and Incorporated Areas
Docket No.: FEMA-B-2115
City of Augusta | City Hall, 210 Main Street, Augusta, AR 72006.
City of Cotton Plant | City Hall, 110 Central Avenue, Cotton Plant, AR 72036.
City of McCrory | City Hall, 109 North Jackson Street, McCrory, AR 72101.
City of Patterson | City Hall, 123 South Main Street, Patterson, AR 72123.
Town of Hunter | Woodruff County Courthouse, 500 North 3rd Street, Augusta, AR 72006.
Unincorporated Areas of Woodruff County | Woodruff County Courthouse, 500 North 3rd Street, Augusta, AR 72006.
Sonoma County, California and Incorporated Areas
Docket No.: FEMA-B-2058
City of Rohnert Park | Development Services Department, City Hall, 130 Avram Avenue, Rohnert Park, CA 94928.
Unincorporated Areas of Sonoma County | Sonoma County Permit and Resource Management, 2550 Ventura Avenue, Santa Rosa, CA 95403.
Morris County, Kansas and Incorporated Areas
Docket No.: FEMA-B-2135
City of Council Grove | City Hall, 205 Union Street, Council Grove, KS 66846.
City of Dunlap | Morris County Courthouse, 501 West Main Street, Council Grove, KS 66846.
City of Parkerville | Morris County Courthouse, 501 West Main Street, Council Grove, KS 66846.
Unincorporated Areas of Morris County | Morris County Courthouse, 501 West Main Street, Council Grove, KS 66846.
Cheboygan County, Michigan (All Jurisdictions)
Docket No.: FEMA-B-2114
City of Cheboygan | City Hall, 403 North Huron Street, Cheboygan, MI 49721.
Township of Beaugrand | Beaugrand Township Hall, 1999 Old Mackinaw Road, Cheboygan, MI 49721.
Township of Benton | Benton Township Hall, 5012 Orchard Beach Road, Cheboygan, MI 49721.
Township of Mackinaw | Mackinaw Township Hall, 10595 Wallick Road, Mackinaw City, MI 49701.
Village of Mackinaw City | Village Hall, 102 South Huron Avenue, Mackinaw City, MI 49701.
St. Clair County, Michigan (All Jurisdictions)
Docket No.: FEMA-B-1933
Township of Clay | Clay Township Offices, 4710 Pointe Tremble Road, Algonac, MI 48001.
Township of Cottrellville | Township Hall, 7008 Marsh Road, Cottrellville, MI 48039.
Township of Ira | Ira Township Hall, 7085 Meldrum Road, Fair Haven, MI 48023.
St. Clair County, Michigan (All Jurisdictions)
Docket No.: FEMA-B-2104
Charter Township of Fort Gratiot | Municipal Center, 3720 Keewahdin Road, Fort Gratiot, MI 48059.
City of Port Huron | Municipal Office Center, 100 McMorran Boulevard, Port Huron, MI 48060.
Township of Burtchville | Township Hall, 4000 Burtch Road, Burtchville, MI 48059.
Charter Township of Port Huron | Township Office, 3800 Lapeer Road, Port Huron, MI 48060.
Chatham County, North Carolina and Incorporated Areas
Docket No.: FEMA-B-1616
Unincorporated Areas of Chatham County | Chatham County Planning Department, 80-A East Street, Pittsboro, NC 27312.
Durham County, North Carolina and Incorporated Areas
Docket No.: FEMA-B-1616
City of Durham | City-County Inspections Department, 101 City Hall Plaza, Durham, NC 27701.
City of Raleigh | Engineering Services Department, One Exchange Plaza, Suite 706, Raleigh, NC 27601.
Town of Morrisville | Town Hall, 100 Town Hall Drive, Morrisville, NC 27560.
Unincorporated Areas of Durham County | Durham County, City-County Inspections Department, 101 City Hall Plaza, Durham, NC 27701.
Franklin County, North Carolina and Incorporated Areas
Docket No.: FEMA-B-1616
Unincorporated Areas of Franklin County | Franklin County Planning and Inspections, 215 East Nash Street, Louisburg, NC 27549.
Johnston County, North Carolina and Incorporated Areas
Docket No.: FEMA-B-1445 and FEMA-B-1616
Town of Clayton | Town Hall, 111 East 2nd Street, Clayton, NC 27520.
Unincorporated Areas of Johnston County | Johnston County Planning Department, 309 East Market Street, Smithfield, NC 27577.
Wake County, North Carolina and Incorporated Areas
Docket No.: FEMA-B-1616 and FEMA-B-2102
City of Raleigh | Engineering Services Department, One Exchange Plaza, Suite 706, Raleigh, NC 27601.
Town of Apex | Engineering Department, 73 Hunter Street, Apex, NC 27502.
Town of Cary | Stormwater Services Division, 316 North Academy Street, Cary, NC 27513.
Town of Fuquay-Varina | Engineering Department, 134 North Main Street, Fuquay-Varina, NC 27526.
Town of Garner | Engineering Department, 900 7th Avenue, Garner, NC 27529.
Town of Holly Springs | Engineering Department, 128 South Main Street, Holly Springs, NC 27540.
Town of Knightdale | Town Hall, 950 Steeple Square Court, Knightdale, NC 27545.
Town of Morrisville | Town Hall, 100 Town Hall Drive, Morrisville, NC 27560.
Town of Rolesville | Planning Department, 502 Southtown Circle, Rolesville, NC 27571.
Town of Wake Forest | Planning Department, 301 South Brooks Street, 3rd Floor, Wake Forest, NC 27587.
Town of Wendell | Planning Department, 15 East 4th Street, Wendell, NC 27591.
Town of Zebulon | Planning Department, 1003 North Arendell Avenue, Zebulon, NC 27597.
Unincorporated Areas of Wake County | Wake County Environmental Services Department, Waverly F. Atkins Office Building, 337 South Salisbury Street, Raleigh, NC 27601.

[FR Doc. 2022-07296 Filed 4-5-22; 8:45 am]

BILLING CODE 9110-12-P